DEPARTMENT OF HEALTH AND HUMAN SERVICES

Centers for Disease Control and Prevention

Disease, Disability, and Injury Prevention and Control Special Emphasis Panel (SEP)—RFA-IP-23-002, Understanding Adult Immunization Quality Improvement Approaches Among Adult HCP and Health Departments; and RFA-IP-23-003, Programmatic Interventions To Increase Uptake of Influenza and COVID-19 Vaccination Among Students Attending Institutions of Higher Education; Amended Notice of Closed Meeting

Notice is hereby given of a change in the meeting of the Disease, Disability, and Injury Prevention and Control Special Emphasis Panel (SEP)—RFA-IP-23-002, Understanding Adult Immunization Quality Improvement Approaches Among Adult HCP and Health Departments; and RFA-IP-23-003, Programmatic Interventions to Increase Uptake of Influenza and COVID-19 Vaccination Among Students Attending Institutions of Higher Education; March 29, 2023, 10:00 a.m.-5:00 p.m., EDT, Teleconference, Centers for Disease Control and Prevention, Room 1080, 8 Corporate Boulevard, Atlanta, Georgia 30329, in the original FRN.

The meeting was published in the Federal Register on November 15, 2022, Volume 87, Number 219, pages 68498-68499.

The meeting is being amended to change the meeting date and the room number and should read as follows:

Dates: March 29-30, 2023.

Times: 10 a.m.-5 p.m., EDT.

Place: Teleconference, Centers for Disease Control and Prevention, Room 1077, 8 Corporate Boulevard, Atlanta, Georgia 30329.

The meeting is closed to the public.

For Further Information Contact: Gregory Anderson, M.S., M.P.H., Scientific Review Officer, National Center for HIV, Viral Hepatitis, STD, and TB Prevention, CDC, 1600 Clifton Road NE, Mailstop US8-1, Atlanta, Georgia 30329-4027; Telephone: (404) 718-8833; Email: GAnderson@cdc.gov.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2022-28000 Filed 12-22-22; 8:45 am]

BILLING CODE 4163-18-P